DEPARTMENT OF TRANSPORTATION

Federal Aviation Administration

Notice of Public Workshops for the Draft Re-Evaluation of the O'Hare Modernization Environmental Impact Statement

AGENCY: Federal Aviation Administration, DOT.

ACTION: Notice of Public Workshops for the Draft Re-Evaluation of the O'Hare Modernization Environmental Impact Statement.

SUMMARY: The Federal Aviation Administration (FAA) announces its intent to host Public Workshops for the Draft Written Re-Evaluation of the O'Hare Modernization Environmental Impact Statement (Draft Re-Evaluation) for Chicago O'Hare International Airport, Chicago, Illinois.

The Draft Re-Evaluation will identify the potential environmental impacts associated with the construction schedule modification that alters the timing for commissioning new Runway 10R/28L, new Runway 9C/27C, and the extension of Runway 9R/27L at O'Hare International Airport pursuant to the National Environmental Policy Act.

The FAA will host Public Workshops on the Draft Re-Evaluation. The Public Workshops on the Draft Re-Evaluation will be held on the following dates: Monday, August 10, 2015, at White Eagle Banquets, 6839 North Milwaukee Avenue, Niles, Illinois 60714; Tuesday, August 11, 2015, at Taft High School, 6530 West Bryn Mawr Avenue, Chicago, Illinois 60631; Wednesday, August 12, 2015, at Monty's Elegant Banquets, 703 South York Road, Bensenville, Illinois 60106; Thursday, August 13, 2015, at Belvedere Events and Banquets, 1170 West Devon Avenue, Elk Grove Village, Illinois 60007. Each Public Workshop will start at 1 p.m. (Central Standard Time), and registration to participate in the Public Workshops will conclude by 9 p.m. (Central Standard Time). Representatives of FAA and its consultants will be available to provide information about the Draft Re-Evaluation. Spanish language translators will be available at the Public Workshops. If you need the assistance of a translator, other than Spanish, please call Ms. Amy Hanson at (847) 294-7354 by August 3, 2015.

The Draft Re-Evaluation will be available for review on line at (http://www.faa.gov/airports/airport_development/omp/eis_re-eval/) and at libraries around O'Hare International Airport. The FAA will issue a separate notice at the time the Draft Re-Evaluation is available.

Issued in Des Plaines, IL, July 7, 2015.
James G. Keefer,
Manager, Chicago Airports District Office.

[FR Doc. 2015-17040 Filed 7-10-15; 8:45 am]

BILLING CODE 4910-13-P